NATIONAL AERONAUTICS AND SPACE ADMINISTRATION

[Notice 12-039]

NASA Advisory Council; Aeronautics Committee; UAS Subcommittee Meeting

AGENCY: National Aeronautics and Space Administration.

ACTION: Notice of meeting.

SUMMARY: In accordance with the Federal Advisory Committee Act, Public Law 92-463, as amended, the National Aeronautics and Space Administration (NASA) announces a meeting of the Unmanned Aircraft Systems (UAS) Subcommittee of the Aeronautics Committee of the NASA Advisory Council. The meeting will be held for the purpose of soliciting, from the aeronautics community and other persons, research and technical information relevant to program planning.

DATES: Wednesday, June 27, 2012, 8 a.m. to 4:30 p.m., and Thursday, June 28, 2012, 8 a.m. to 3 p.m., Local Time.

ADDRESSES: This meeting will take place at NASA Headquarters, 300 E Street SW., Room 6B42, Washington, DC 20546.

FOR FURTHER INFORMATION CONTACT: Ms. Brenda L. Mulac, Executive Secretary for the UAS Subcommittee of the Aeronautics Committee, National Aeronautics and Space Administration Headquarters, Washington, DC 20546, (202) 358-1578, or brenda.l.mulac@nasa.gov.

SUPPLEMENTARY INFORMATION: The meeting will be open to the public up to the capacity of the room. Any person interested in participating in the meeting by Webex and telephone should contact Ms. Brenda L. Mulac at (202) 358-1578 for the web link, toll-free number and passcode. The agenda for the meeting includes the following topics:

• Overview of the Integration of UAS into the National Airspace System Project Technical Challenges

• Overview of the Communications Subproject

• Overview of the Certification Subproject

• Overview of the Subproject on Human Systems Interface

• Overview of the Subproject on Separation Assurance/Sense and Avoid Interoperability

• Overview of the Integration Test and Evaluation Subproject

It is imperative that these meetings be held on this date to accommodate the scheduling priorities of the key participants. Attendees will be requested to sign a register and comply with NASA security requirements, including the presentation of a valid picture ID to Security before access to NASA Headquarters (West Lobby—Visitor Control Center). Foreign nationals attending this meeting will be required to provide a copy of their passport and visa in addition to providing the following information no less than 10 working days prior to the meeting: full name; gender; date/place of birth; citizenship; visa information (type, number, expiration date); passport information (number, country, expiration date); employer/affiliation information (name of institution, address, country, telephone); title/position of attendee; and home address to Ms. Brenda L. Mulac, by fax at (202) 358-3602. U.S. citizens and green card holder are requested to submit their name and affiliation 3 working days prior to the meeting to Brenda Mulac.

Patricia D. Rausch,
Advisory Committee Management Officer, National Aeronautics and Space Administration.

[FR Doc. 2012-13304 Filed 5-31-12; 8:45 am]

BILLING CODE 7510-13-P